DEPARTMENT OF STATE

[Public Notice 7125]

Bureau of Political-Military Affairs: Directorate of Defense Trade Controls; Notifications to the Congress of Proposed Commercial Export Licenses

SUMMARY: Notice is hereby given that the Department of State has forwarded the attached Notifications of Proposed Export Licenses to the Congress on the dates indicated on the attachments pursuant to sections 36(c) and 36(d) and in compliance with section 36(f) of the Arms Export Control Act (22 U.S.C. 2776).

DATES: Effective Date: As shown on each of the 3 letters.

FOR FURTHER INFORMATION CONTACT: Mr. Robert S. Kovac, Managing Director, Directorate of Defense Trade Controls, Bureau of Political-Military Affairs, Department of State (202) 663-2861.

SUPPLEMENTARY INFORMATION: Section 36(f) of the Arms Export Control Act mandates that notifications to the Congress pursuant to sections 36(c) and 36(d) must be published in the Federal Register when they are transmitted to Congress or as soon thereafter as practicable.

August 10, 2010 (Transmittal No. DDTC 109-024.)

Hon. Nancy Pelosi, Speaker of the House of Representatives.

Dear Madam Speaker: Pursuant to Section 36(c) of the Arms Export Control Act, I am transmitting, herewith, certification of a proposed amendment to a technical assistance agreement for the export of defense articles, to include technical data, and defense services in the amount of $50,000,000 or more.

The transaction contained in the attached certification involves the export of defense articles, to include technical data, and defense services for the Hughes Air Defense Radar and Air Defense System (HADAR) in Taiwan for the intermediate level operation, maintenance, installation, test, training, and repair of the HADAR system. Taiwan Air Force is the end user.

The United States Government is prepared to license the export of these items having taken into account political, military, economic, human rights and arms control considerations.

More detailed information is contained in the formal certification which, though unclassified, contains business information submitted to the Department of State by the applicant, publication of which could cause competitive harm to the United States firm concerned.

Sincerely,

Richard R. Verma,

Assistant Secretary, Legislative Affairs.

August 10, 2010 (Transmittal No. DDTC 10-027.)

Hon. Nancy Pelosi, Speaker of the House of Representatives.

Dear Madam Speaker: Pursuant to Section 36(c) of the Arms Export Control Act, I am transmitting, herewith, certification of a proposed amendment to both a combined technical assistance agreement and manufacturing licensing agreement for the export of defense articles, to include technical data, and defense services, in the amount of $50,000,000 or more.

The transaction contained in the attached certification involves the manufacture of hardware and export of defense articles, to include technical data, and defense services, for the GD-53 Multimode Radar on Taiwan's Indigenous Defensive Fighter (IDF) Aircraft. The hardware manufactured abroad in conjunction with the manufacturing licensing agreement associated with this notification consists of components of the GD-53 Multimode Radar. The end user is the Taiwan Ministry of National Defense.

The United States Government is prepared to license the export of these items having taken into account political, military, economic, human rights and arms control considerations.

More detailed information is contained in the formal certification which, though unclassified, contains business information submitted to the Department of State by the applicant, publication of which could cause competitive harm to the United States firm concerned.

Sincerely,

Richard R. Verma,

Assistant Secretary, Legislative Affairs.

August 5, 2010 (Transmittal No. DDTC 10-068.)

Hon. Nancy Pelosi, Speaker of the House of Representatives.

Dear Madam Speaker: Pursuant to Section 36(c) of the Arms Export Control Act, I am transmitting, herewith, certification of a proposed manufacturing license agreement to include the export of defense articles, including technical data, and defense services in the amount of $50,000,000 or more.

The transaction contained in the attached certification involves the export of defense articles, including technical data, and defense services for the sale and support of the VINASAT-2 Commercial Communications Satellite Program to Vietnam.

The United States government is prepared to license the export of these items having taken into account political, military, economic, human rights, and arms control considerations.

More detailed information is contained in the formal certification which, though unclassified, contains business information submitted to the Department of State by the applicant, publication of which could cause competitive harm to the United States firm concerned.

Sincerely,

Matthew Rooney,

Principal Deputy Assistant Secretary, Legislative Affairs.

Dated: August 13, 2010.
Robert S. Kovac,
Managing Director, Directorate of Defense Trade Controls, Department of State.

[FR Doc. 2010-20626 Filed 8-18-10; 8:45 am]

BILLING CODE 4710-25-P